DEPARTMENT OF THE INTERIOR

National Park Service

Notice of Intent To Repatriate a Cultural Item: Field Museum of Natural History, Chicago, IL

AGENCY: National Park Service, Interior

ACTION: Notice.

Notice is here given in accordance with the Native American Graves Protection and Repatriation Act (NAGPRA), 25 U.S.C. 3005, Sec. 7, of the intent to repatriate a cultural item in the possession of the Field Museum of Natural History, Chicago, IL, that meets the definition of “cultural patrimony” under 25 U.S.C. 3001.

This notice is published as part of the National Park Service's administrative responsibilities under NAGPRA, 25 U.S.C. 3003, Sec. 5(d)(3). The determinations within this notice are the sole responsibility of the museum, institution, or Federal agency that has control of these cultural items. The National Park Service is not responsible for the determinations within this notice.

The cultural item is a wampum belt, which is composed of purple beads with white beads forming the design of four pairs of diamonds. It is interwoven with buckskin and has fringe at the ends. The wampum belt measures 3 feet 8⅛ inches long without the fringe.

The Field Museum of Natural History purchased the wampum belt in 1900 from Henry Hysen of Wisconsin. The Field Museum of Natural History assessioned the wampum belt into its collection the same year (catalog number 68567). Museum records indicate that Mr. Hysen purchased the wampum belt “from the owner who lived on the Stock Ridge Reservation, one of the Brotherton Indians whose family had held the belt since it was sent to them by Chief Black Hawk as a message to the tribes of the Michigan and Wisconsin Indians assembled at Travers bay to hold them in control during his warfare.” A separate catalog entry, that is neither attributed nor dated, identifies the belt as the Peace and Friendship Belt sent by “Black Hawk war chief of the Sauk tribe of Indians in the year A.D. 1832 to the Ottawa tribe, residing near Traverse Bay, Michigan, asking them to remain neutral in the war which Black Hawk was about to wage against the American Government.” It further provides that the belt had “been kept in the family of the old chief Ta-ko-se-gun and by his son-in-law presented to G.T. Wendell.”

The wampum belt is culturally affiliated with the Brotherton Indians. Expert opinion submitted to the Field Museum of Natural History by the Stockbridge Munsee Community, Wisconsin supports the finding that any Brotherton Indian living on the Stockbridge Reservation at the time the wampum belt was acquired would have been considered a full member of the Stockbridge tribe (now called the Stockbridge Munsee Community, Wisconsin). The determination of cultural affiliation was also confirmed by the Field Museum of Natural History's consulting with an outside expert familiar with wampum belts of this time period. The Field Museum of Natural History has determined that the large size, composition, and design of the wampum belt indicates that it is an important “historical” belt, meaning that the belt was a record of a historical event marked and remembered by the tribe, and as such would qualify as an object having ongoing historical, traditional, or cultural importance central to the Stockbridge Munsee Community, Wisconsin. Consultation evidence presented by representatives of the Stockbridge Munsee Community, Wisconsin also indicates that no individual had or has the right to alienate a wampum belt.

Officials of the Field Museum of Natural History have determined that, pursuant to 25 U.S.C. 3001, Sec. 2(3)(D), this cultural item has ongoing historical, traditional, or cultural importance central to the Native American group or culture itself, rather than property owned by an individual. Officials of the Field Museum of Natural History also have determined that, pursuant to 25 U.S.C. 3001, Sec. 2(2), there is a relationship of shared group identity that can be reasonably traced between the wampum belt and the Brotherton Indians as full members of the Stockbridge Munsee Community, Wisconsin.

Officials of the Field Museum of Natural History assert that, pursuant to 25 U.S.C. 3001, Sec. 2(13), the Field Museum of Natural History has right of possession of the wampum belt. Officials of the Field Museum of Natural History also recognize that the wampum belt is significant to the Stockbridge Munsee Community, Wisconsin and have reached an agreement with the Stockbridge Munsee Community, Wisconsin that allows the Field Museum of Natural History to return the wampum belt to the tribe voluntarily, pursuant to the compromise of claim provisions of the Field Museum of Natural History's repatriation policy.

Representatives of any other Indian tribe that believes itself to be culturally affiliated with this object of cultural patrimony should contact Jonathan Haas, MacArthur Curator of North American Anthropology, Field Museum of Natural History, 1400 South Lake Shore Drive, Chicago, IL 60605, telephone (312) 665-7829, before May 5, 2003. Repatriation of this object of cultural patrimony to the Stockbridge Munsee Community, Wisconsin may proceed after that date if no additional claimants come forward.

The Field Museum of Natural History is responsible for notifying the Brotherton Indians of Wisconsin (a nonfederally recognized Indian group); Grand Traverse Band of Ottawa and Chippewa Indians, Michigan; Little Traverse Bay Bands of Odawa Indians, Michigan; Sac & Fox Nation of Missouri in Kansas and Nebraska; Sac & Fox Nation, Oklahoma; Sac & Fox Tribe of the Mississippi in Iowa; and Stockbridge Munsee Community, Wisconsin that this notice has been published.

Dated: February 28, 2003.
John Robbins,
Assistant Director, Cultural Resources Stewardship and Partnerships.

[FR Doc. 03-8193 Filed 4-3-03; 8:45 am]

BILLING CODE 4310-70-M